DEPARTMENT OF LABOR

Employment and Training Administration

Comment Request for Information Collection for Trade Adjustment Assistance Community College and Career Training (TAACCCT) Grant Program Reporting Requirements (Routine Extension With a Minor Revision to one Definition to Increase Clarity)

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the information collection request (ICR) to collect data about the TAACCCT Grant Program Reporting Requirements (expires March 31, 2015).

Interested parties are encouraged to provide comments to the contact shown in the ADDRESSES section. Comments must be written to receive consideration, and they will be summarized and included in the request for OMB approval of the final ICR. To help ensure appropriate consideration, comments should mention this grant program (OMB Control No. 1205-0489).

DATES: Submit written comments to the office listed in the addresses section below on or before March 2, 2015.

ADDRESSES: A copy of this ICR with applicable supporting documentation; including a description of the likely respondents, proposed frequency of response, and estimated total burden may be obtained free by contacting Kristen Milstead, Division of Strategic Investments, Room C4518, Employment and Training Administration, U.S. Department of Labor, 200 Constitution Avenue NW., Washington, DC 20210. Telephone number: 202-693-3949 (this is not a toll-free number). Individuals with hearing or speech impairments may access the telephone number above via TTY by calling the toll-free Federal Information Relay Service at 1-877-889-5627 (TTY/TDD). Fax: 202-693-3890. Email: taaccct@dol.gov.

SUPPLEMENTARY INFORMATION:

I. Background

ETA requires grantees to submit Quarterly Progress Reports with a narrative summary of at least two progress measures and at least two implementation measures identified by the grantee in their project work plan. Every fourth quarter, grantees submit an Annual Performance Report with standardized outcome measures that will include aggregate data for program participants for the following ten outcome measures: unique participants served/enrolled; total number of participants who have completed a grant-funded program of study; total number still retained in their programs of study; total number retained in other education programs; total number of credit hours completed; total number of earned credentials; total number pursuing further education after program of study completion; total number employed after program of study completion; total number retained in employment after program of study completion; and the total number of those employed at enrollment who receive a wage increase post-enrollment.

These reports help ETA gauge the effects of the TAACCCT grants, identify grantees that could serve as useful models, and target technical assistance appropriately.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension

Title of Collection: Trade Adjustment Assistance Community College and Career Training (TAACCCT) Grant Program Reporting Requirements

Forms: ETA 9159 and 9160.

OMB Control Number: 1205-0489.

Affected Public: Private sector, not for profit

Estimated Number of Respondents: 256 grantees

Frequency: quarterly

Total Estimated Annual Responses: 848,032 responses

Estimated Total Annual Burden Hours: 64,890 hours

Total Estimated Annual Other Cost Burden: $0.

We will summarize and/or include in the request for OMB approval of the ICR, the comments received in response to this comment request; they will also become a matter of public record.

Portia Wu,
Assistant Secretary for Employment and Training, Labor.

[FR Doc. 2014-30311 Filed 12-29-14; 8:45 am]

BILLING CODE 4510-FN-P